DEPARTMENT OF THE INTERIOR

Bureau of Land Management

[AZ 330-05-1610-DP-082A-241E]

Notice of Availability of Lake Havasu Field Office Draft Resource Management Plan and Draft Environmental Impact Statement

AGENCY: Bureau of Land Management, Interior.

ACTION: Notice of availability of Lake Havasu Field Office (Arizona) Draft Resource Management Plan and Draft Environmental Impact Statement.

SUMMARY: In compliance with the Bureau of Land Management (BLM) planning regulations, title 43 Code of Federal Regulations (CFR) 1610.2(f)(3) and the Council on Environmental Quality Regulations, title 40 CFR 1502.9(a), the BLM hereby gives notice that the Lake Havasu Field Office Draft Resource Management Plan and Draft Environmental Impact Statement (DRMP/DEIS) is available for public review and comment. The planning area encompasses more than 1.3 million acres of the BLM-administered lands.

DATES: Written comments on the DRMP/DEIS will be accepted for 90 days following the date the Environmental Protection Agency publishes its Notice of Availability in the Federal Register. Future meetings or hearings and any other public involvement activities will be announced at least 15 days in advance through local media.

ADDRESSES: Written comments may be mailed to Tim Smith, Lake Havasu Field Manager, Resource Management Plan, Lake Havasu Field Office, 2610 Sweetwater, Lake Havasu City, Arizona 86406. You may also comment using the following e-mail address: Lake_havasu@blm.gov. Finally, you may hand-deliver comments to the above listed address. A minimum of five public meetings will be held during the 90-day public review and comment period during which oral and written comments will be accepted. Exact dates, places, and times of public meetings will be announced using local media, and may be posted on the Arizona BLM Web page, or you may contact Gina Trafton at (928) 505-1273 for further information.

Public comments, including names and street addresses of respondents, will be available for public review at the BLM Lake Havasu Field Office, 2610 Sweetwater, Lake Havasu City, Arizona 86406, during regular business hours (8 a.m. to 4:30 p.m.), Monday through Friday, except holidays. Individual respondents may request confidentiality. If you wish to withhold your name or street address from public review or from disclosure under the Freedom of Information Act, you must state this prominently at the beginning of your comments. Such requests will be honored to the extent allowed by law. All submissions from organizations or businesses, and from individuals identifying themselves as representatives or officials of organizations or businesses, will be made available for public inspection in their entirety.

FOR FURTHER INFORMATION CONTACT: Gina Trafton, Planning and Environmental Coordinator, Bureau of Land Management, 2610 Sweetwater, Lake Havasu City, Arizona 86406, telephone (928) 505-1273.

SUPPLEMENTARY INFORMATION: A copy of the Lake Havasu Field Office Draft Resource Management Plan and Draft Environmental Impact Statement is available for review via the Internet from a link at http://www.az.blm.gov (subject to change). You may also obtain an electronic (on CD-ROM), or paper copy at the Bureau of Land Management, Lake Havasu Field Office at the address listed previously or by contacting Gina Trafton at (928) 505-1273.

The Lake Havasu Field Office Draft Resource Management Plan/Draft Environmental Impact Statement is being developed by the BLM. The DRMP/DEIS includes strategies for protecting and preserving the biological, cultural, recreational, geological, educational, scientific, and scenic values that balance multiple uses of the BLM-administered lands throughout the Lake Havasu Field Office planning area.

The preferred alternative attempts to accomplish the above in coordination with the Bureau of Reclamation, U.S. Fish and Wildlife Service, Arizona Department of Transportation, Arizona State Land Department, Arizona Game and Fish Department, California Department of Fish and Game, the BLM and other land managing agencies within the boundaries of the planning area. The range of alternatives in this draft incorporates planning decisions brought forward from the current BLM planning documents, the Yuma District Resource Management Plan (1987), Kingman Resource Area Resource Management Plan (1995), Lower Gila South Resource Management Plan (1988) and Lower Gila North Management Framework Plan (1983). The preferred alternative identifies five potential Areas of Critical Environmental Concern (ACEC): Beale Slough Riparian and Cultural ACEC (2,395 acres); Bullhead Bajada Natural and Cultural ACEC (7,090 acres); Crossman Peak Scenic ACEC (48,855 acres); Swansea Historic District ACEC (5,973 acres); and, Three Rivers Riparian ACEC (2,246 acres). There are up to four additional potential ACECs in one or more of the other alternatives: Black Peak Cultural ACEC (740 acres); Cienega Mining District Historic ACEC (6,649 acres); Lake Havasu Aubrey Hills Natural Area ACEC (19,088 acres); and, Whipple Wash Natural Area ACEC (10,962 acres). The following types of resource use limitations would generally apply to these ACECs: (1) Design grazing prescriptions to achieve the desired plant community objectives; (2) Recreation facilities would be limited to projects that protect ACEC values; (3) Camping would be limited to developed or signed sites; (4) Travel would be permitted only on designated open and signed routes. For detailed information see Chapter 2, Description of Alternatives, Special Area Designations section.

A Proposed Resource Management Plan and Final Environmental Impact Statement will be prepared by the BLM for the Resource Management Plan accordance with planning regulations at 43 CFR 1610 and NEPA at 40 CFR 1502. The Lake Havasu Field Office Resource Management Plan affects only the BLM-administered Federal lands and Federal interests located within the planning area boundary.

Dated: September 16, 2005.
Elaine Y. Zielinski,
Arizona State Director.

[FR Doc. 05-19493 Filed 9-29-05; 8:45 am]

BILLING CODE 4310-32-P